DEPARTMENT OF THE INTERIOR

National Park Service

[NPS-WASO-NAGPRA-NPS0039836; PPWOCRADN0-PCU00RP14.R50000]

Notice of Intended Repatriation: American Museum of Natural History, New York, NY

AGENCY: National Park Service, Interior.

ACTION: Notice.

SUMMARY: In accordance with the Native American Graves Protection and Repatriation Act (NAGPRA), the American Museum of Natural History intends to repatriate certain cultural items that meet the definition of sacred objects and objects of cultural patrimony and that have a cultural affiliation with the Indian Tribes or Native Hawaiian organizations in this notice.

DATES: Repatriation of the cultural items in this notice may occur on or after May 5, 2025.

ADDRESSES: Nell Murphy, American Museum of Natural History, 200 Central Park West, New York, NY 10024, telephone (212) 769-5837, email nmurphy@amnh.org.

SUPPLEMENTARY INFORMATION: This notice is published as part of the National Park Service's administrative responsibilities under NAGPRA. The determinations in this notice are the sole responsibility of the American Museum of Natural History, and additional information on the determinations in this notice, including the results of consultation, can be found in the summary or related records. The National Park Service is not responsible for the determinations in this notice.

Abstract of Information Available

A total of 103 cultural items have been requested for repatriation. The 103 sacred objects and objects of cultural patrimony are basketry, aprons, deerskins, dresses, skirts, hats, headdresses/head ornaments, necklaces, eagle feathers, flints, gambling sticks, whistles, quivers, a model bow, and a shinny stick. The majority of these items (93 total) were collected on behalf of the Museum by anthropologist Alfred Louis Kroeber in the Klamath region of California. They were collected on the Museum's Huntington Expedition 1902 and accessioned that same year. The items are described in Museum records as having come from “along the Klamath River.” Kroeber describes them as being Yurok in origin.

The remaining items came to the Museum as gifts acquired through various small accessions. One basket was donated to the Museum by J.G. Phelps Stokes and accessioned in 1906. Five items (two bowl-shaped baskets, two basketry hats, and one small basket) were donated to the Museum by Mrs. William M. Ivins, accessioned in 1915. One woman's skirt was donated to the Museum by Col. J.M. Andrews and accessioned in 1924. One dance apron was donated to the Museum in 1942 by Faith Whitney Ziesing, daughter of Caspar Whitney, a founding member of the Explorers Club. One skin cap, collected by Major Junius W. MacMurray, a veteran of the U.S. Civil War, was donated to the museum in 1946 and accessioned that year. Finally, one basketry hat was found in Museum storage in 1995 and does not have any associated archival material.

While it no longer does so, in the past, the Museum applied potentially hazardous pesticides to items in the collections. Museum records do not list specific objects treated or which of several chemicals used were applied to a particular item. Therefore, those handling this material should follow the advice of industrial hygienists or medical personnel with specialized training in occupational health or with potentially hazardous substances.

Determinations

The American Museum of Natural History has determined that:

• The 103 sacred objects and objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Pulikla Tribe of Yurok People (previously listed as Resighini Rancheria, California) and the Yurok Tribe of the Yurok Reservation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 5, 2025. If competing requests for repatriation are received, the American Museum of Natural History must determine the most appropriate requestor prior to repatriation. Requests for joint repatriation of the cultural items are considered a single request and not competing requests. The American Museum of Natural History is responsible for sending a copy of this notice to the Indian Tribes and Native Hawaiian organizations identified in this notice and to any other consulting parties.

Authority: Native American Graves Protection and Repatriation Act, 25 U.S.C. 3004 and the implementing regulations, 43 CFR 10.9.

Dated: March 26, 2025.
Melanie O'Brien,
Manager, National NAGPRA Program.

[FR Doc. 2025-05809 Filed 4-3-25; 8:45 am]

BILLING CODE 4312-52-P